DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before November 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0087.

Type of Review: Revision of a currently approved collection.

Title: Labeling and Advertising Requirements Under the Federal Alcohol Administration Act.

Form: TTB F 5200.14.

Abstract: Under the Federal Alcohol Administration Act (FAA Act), at 27 U.S.C. 205(e) and (f), TTB has issued regulations regarding the labeling and advertising of wine, distilled spirits, and malt beverages. The FAA Act provides that these regulations should, among other things, prohibit consumer deception and the use of misleading statements on labels and ensure that labels provide the consumer with adequate information as to the identity and quality of the product. Under these regulations, bottlers and importers of alcohol beverages must provide certain mandatory information and adhere to certain performance standards for statements made on labels and in advertisements of alcohol beverages to ensure that consumers are not deceived or mislead about a product's identity and quality.

Affected Public: Private Sector: Businesses or other for-profits.

Estimated Annual Burden Hours: 9,552.

OMB Number: 1513-0114.

Type of Review: Revision of a currently approved collection.

Title: Beer for Exportation.

Form: TTB F 5120.12.

Abstract: Federal excise tax is imposed under 26 U.S.C. 5051 on beer removed from domestic breweries for consumption or sale. However, under provisions of 26 U.S.C. 5053, beer may be removed from the brewery without payment of tax for export or for use as supplies on certain vessels and aircraft, subject to the prescribed regulations TTB requires brewers to give notice of such removals on TTB F 5130.12. The form is also used by Customs officers to certify the exportation (or by Armed Forces officers to acknowledge receipt) of beer removed without payment of tax TTB requires this information to ensure that exportation of the beer took place as claimed and that untaxpaid beer does not reach the domestic market and causing loss of revenue.

Affected Public: Private Sector: Businesses or other for-profits.

Estimated Annual Burden Hours: 9,933.

OMB Number: 1513-0115.

Type of Review: Revision of a currently approved collection.

Title: Usual and Customary Business Records Relating to Wine, TTB REC 5120/1.

Abstract: Under 26 U.S.C. 5367, 5369, 5370, and 5555, TTB regulations require wineries, taxpaid wine bottling houses, and vinegar plants to keep usual and customary business records relating to wine, including purchase invoices, sales invoices, and internal records, in order to document the flow of ingredients and materials through fermenting, processing, packaging, storing and shipping operations. TTB routinely inspects these records to ensure the proper payment of Federal wine excise taxes by these businesses.

Affected Public: Private Sector: Businesses or other for-profits.

Estimated Annual Burden Hours: 1.

OMB Number: 1513-0116.

Type of Review: Revision of a currently approved collection.

Title: Bond for Drawback Under 26 U.S.C. 5111.

Form: TTB F 5154.3

Abstract: The Internal Revenue Code, at 26 U.S.C. 5111-5114, authorizes “drawback” (similar to a refund) of all but $1.00 per gallon of the Federal excise tax already paid on distilled spirits, if the spirits are subsequently used in the manufacture of certain nonbeverage products such as medicines, food products, flavors, and perfumes. Persons making such products must file claims proving their eligibility for drawback. Claims may be filed on either a monthly or a quarterly basis, and 26 U.S.C. 5114(b) authorizes the Secretary of the Treasury to require persons filing monthly claims to file a bond in order to protect the revenue. Monthly claimants file their bond using TTB F 5154.3.

Affected Public: Private Sector: Businesses or other for-profits.

Estimated Annual Burden Hours: 8.

Dated: October 27, 2015.
Dawn D. Wolfgang,
Treasury PRA Clearance Officer.

[FR Doc. 2015-27660 Filed 10-29-15; 8:45 am]

BILLING CODE 4810-31-P